DEPARTMENT OF ENERGY

Federal Energy Regulatory Commission

[Docket No. ER02-851-000]

Southern Company Services, Inc.; Notice of Technical Conference

July 5, 2002.

In the Commission's order issued on March 27, 2002,¹ the Commission directed a technical conference be held to address issues raised by the filing.

¹ Southern Company Service, Inc., 98 FERC ¶ 61,328 (2002).

Take notice that a technical conference will be held on Wednesday, August 7, 2002, at 9:30 a.m., in a room to be designated, at the Federal Energy Regulatory Commission, 888 First Street, NE., Washington, DC 20426. If appropriate, the technical conference will continue on Thursday, August 8, 2002 at 9:30 a.m., in a room to be designated, at the Federal Energy Regulatory Commission, 888 First Street, NE., Washington, DC 20426.

The parties should be prepared to discuss the contested issues in this proceeding, and the June 21, 2002 staff information requests and the answers thereto. Parties will be provided an opportunity to file comments following the technical conference.

All interested parties and staff are permitted to attend the conference.

Magalie R. Salas,
Secretary.

[FR Doc. 02-17439 Filed 7-10-02; 8:45 am]

BILLING CODE 6717-01-P